DEPARTMENT OF DEFENSE

Department of the Army, U.S. Army Corps of Engineers

33 CFR Part 209

[COE-2016-0016]

RIN 0710-AA72

Use of U.S. Army Corps of Engineers Reservoir Projects for Domestic, Municipal & Industrial Water Supply

AGENCY: Army Corps of Engineers, DoD.

ACTION: Notice of proposed rulemaking; extension of time for public comments.

SUMMARY: The U.S. Army Corps of Engineers (USACE) is extending the public comment period for the notice of proposed rulemaking that appeared in the Federal Register of December 16, 2016.

DATES: The comment period for the proposed rule published December 16, 2016 at 81 FR 91556 is extended until August 18, 2017.

ADDRESSES: You may submit comments, identified by docket number and/or Regulatory Information Number (RIN) and title, by any of the following methods:

Federal eRulemaking Portal: http://www.regulations.gov. Follow the instructions for submitting comments.

Email: WSRULE2016@usace.army.mil. Include the docket number, COE-2016-0016, in the subject line of the message.

Mail: U.S. Army Corps of Engineers, ATTN: CECC-L, U.S. Army Corps of Engineers, 441 G St NW., Washington, DC 20314.

Hand Delivery/Courier: Due to security requirements, we cannot receive comments by hand delivery or courier.

FOR FURTHER INFORMATION CONTACT: Technical information: Jim Fredericks, 503-808-3856. Legal information: Daniel Inkelas, 202-761-0345.

SUPPLEMENTARY INFORMATION: In response to requests from multiple parties, USACE is extending the time for public comments to August 18, 2017. The date listed in the DATES section by which comments must be received is changed from May 15, 2017 to August 18, 2017.

Dated: May 10, 2017.
Theodore A. Brown,
Chief, Policy and Planning Division, Directorate of Civil Works, U.S. Army Corps of Engineers.

[FR Doc. 2017-09861 Filed 5-15-17; 8:45 am]

BILLING CODE 3720-58-P